DEPARTMENT OF COMMERCE

National Oceanic and Atmospheric Administration

[RTID 0648-XE480]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee, including joint sessions with the Atlantic States Marine Fisheries Commission (ASMFC) Summer Flounder, Scup, and Black Sea Bass Management Board and Policy Board.

DATES: The meetings will be held Tuesday, December 10, 2024, through Thursday, December 12, 2024. For agenda details, see SUPPLEMENTARY INFORMATION.

ADDRESSES: This meeting will be an in-person meeting with a virtual option. Council members, other meeting participants, and members of the public will have the option to participate in person at The Westin Annapolis, 100 Westgate Circle, Annapolis, MD 21401, or virtually via Webex webinar. Webinar connection instructions and briefing materials will be available at: https://www.mafmc.org/briefing/december-2024.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, December 10, 2024

Executive Committee—Closed Session

Review 2024 Ricks E. Savage Award nominations.

Council Convenes With the Atlantic States Marine Fisheries Commission's (ASMFC) Summer Flounder, Scup, and Black Sea Bass Management Board

2025 Summer Flounder Recreational Measures Review

Review Advisory Panel and Monitoring Committee recommendations.

Review previously adopted 2025 recreational measures and recommend changes if warranted.

2025 Scup Recreational Measures Review

Review Advisory Panel and Monitoring Committee recommendations.

Review previously adopted 2025 recreational measures and recommend changes if warranted.

----------LUNCH----------

2025 Black Sea Bass Recreational Measures

Review Advisory Panel and Monitoring Committee recommendations.

Recommend conservation equivalency or coastwide management and associated measures for 2025.

ASMFC Summer Flounder, Scup, and Black Sea Bass Board Adjourns Council Convenes With the ASMFC Policy Board

Recreational Sector Separation and Catch Accounting Amendment

Consider approval of draft scoping/public information document.

ASMFC Policy Board Adjourns

2024 Ecosystem Approach to Fisheries Management (EAFM) Risk Assessment

Review final report.

2025 Spiny Dogfish Specifications

Review recommendations from the SSC, Monitoring Committee, Advisory Panel, and staff.

Review previously adopted 2025 specifications and management measures, and recommend changes if necessary.

Wednesday, December 11, 2024

Atlantic Surfclam and Ocean Quahog Species Separation Requirements Amendment Final Action

Review report from Atlantic Surfclam and Ocean Quahog Species Separation Requirements Amendment Implementation Issues Workshop.

Take up postponed motion to consider Alternative 5 as the preferred Amendment alternative.

Select Council preferred alternative and take final action.

----------LUNCH----------

2025-2029 Council Research Priorities

Review and approve the 2025-2029 Council Research Priorities.

2025 Implementation Plan

Review and approve the 2025 Implementation Plan.

Butterfish Mesh Requirements

Review recommendations from the Law Enforcement Committee and staff.

Consider adopting modifications to butterfish mesh requirements.

Ricks E Savage Award Presentation

Presentation of the 2023 Ricks E Savage Award.

Thursday, December 12, 2024

Manomet's River Herring Portal

Staff from Manomet will present the results of a Council-funded project to develop a hub for river herring and shad run data.

Business Session

Committee Reports (SSC), Highly Migratory Species (HMS), Northeast Trawl Advisory Panel (NTAP); Executive Director's Report; Organization Reports; and Liaison Reports.

Other Business and General Public Comment

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aid should be directed to Shelley Spedden, (302) 526-5251, at least 5 days prior to the meeting date.

Authority: 16 U.S.C. 1801 et seq.

Dated: November 18, 2024.
Rey Israel Marquez,
Acting Deputy Director, Office of Sustainable Fisheries, National Marine Fisheries Service.

[FR Doc. 2024-27371 Filed 11-21-24; 8:45 am]

BILLING CODE 3510-22-P